DEPARTMENT OF JUSTICE

Antitrust Division

Notice Pursuant to the National Cooperative Research and Production Act of 1993—National Glass Association

Notice is hereby given that, on April 23, 2009, pursuant to Section 6(a) of the National Cooperative Research and Production Act of 1993, 15 U.S.C. 4301 et seq. (“the Act”), the National Glass Association (“NGA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is the National Glass Association, McLean, VA. The nature and scope of NGA's standards development activities are the development of an Automotive Glass Replacement Uniform Labeling of Adhesives Standard (“AGRULA”). The goal of AGRULA is to provide suppliers of auto glass replacement adhesive products a system of labeling their products that is consistent with other suppliers of similar products and to provide a standardized system of labeling so that retailers are able to find the information they need in an easily recognizable manner to make all products traceable to the individual auto glass installation, regardless of where or by whom the materials were manufactured.

Patricia A. Brink,
Deputy Director of Operations, Antitrust Division.

[FR Doc. E9-11821 Filed 5-21-09; 8:45 am]

BILLING CODE 4410-11-M